DEPARTMENT OF TRANSPORTATION

Surface Transportation Board

[Docket No. AB 290 (Sub-No. 346X)]

Norfolk Southern Railway Company—Abandonment Exemption—in Lake County, Ind.

On October 22, 2013, Norfolk Southern Railroad Company (NSR) filed with the Surface Transportation Board (Board) a petition under 49 U.S.C. 10502 for exemption from the prior approval requirements of 49 U.S.C. 10903 to abandon approximately 2.95 miles of railroad between milepost MQ 280.15 (near the intersection of Lincoln Highway and Junction Avenue in the City of Schererville, Ind.) and milepost MQ 283.10 (near the line's crossing of E 53rd Avenue/Main Street, which is proximate to the border of the Town of Munster and the City of Schererville), in Lake County, Ind. (the Line). The Line traverses United States Postal Service Zip Codes 46321 and 46375, and includes the station of Schererville.¹

¹ Petitioner states that the station of Schererville will not be closed due to other NSR lines that will remain in place that also serve this station.

NSR states that, based on the information in its possession, the Line does not contain federally granted rights-of-way. Any documentation in NSR's possession will be made available to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by February 7, 2014.

Any offer of financial assistance (OFA) under 49 CFR 1152.27(b)(2) will be due no later than February 14, 2014, or 10 days after service of a decision granting the petition for exemption, whichever occurs sooner. Each OFA must be accompanied by a $1,600 filing fee. See 49 CFR 1002.2(f)(25).

All interested persons should be aware that, following the abandonment of rail service and salvage of the Line, the Line may be suitable for other public use, including interim trail use. Any request for a public use condition under 49 CFR 1152.28 or for trail use/rail banking under 49 CFR 1152.29 will be due no later than November 29, 2013. Each trail use request must be accompanied by a $250 filing fee. See 49 CFR 1002.2(f)(27).

All filings in response to this notice must refer to Docket No. AB 290 (Sub-No. 346X) and must be sent to: (1) Surface Transportation Board, 395 E Street SW., Washington, DC 20423-0001; and (2) Robert A. Wimbish, Baker & Miller PLLC, 2401 Pennsylvania Ave. NW., Suite 300, Washington, DC 20037. Replies to the petition are due on or before November 29, 2013.

Persons seeking further information concerning abandonment procedures may contact the Board's Office of Public Assistance, Governmental Affairs and Compliance at (202) 245-0238 or refer to the full abandonment or discontinuance regulations at 49 CFR pt. 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who comment during its preparation. Other interested persons may contact OEA to obtain a copy of the EA (or EIS). EAs in these abandonment proceedings normally will be made available within 60 days of the filing of the petition. The deadline for submission of comments on the EA generally will be within 30 days of its service.

Board decisions and notices are available on our Web site at “WWW.STB.DOT.GOV.”

Decided: November 4, 2013.
By the Board, Rachel D. Campbell, Director, Office of Proceedings.
Jeffrey Herzig,
Clearance Clerk.

[FR Doc. 2013-26840 Filed 11-7-13; 8:45 am]

BILLING CODE 4915-01-P